DEPARTMENT OF THE INTERIOR

National Park Service

[NPS-WASO-NAGPRA-NPS0036327; PPWOCRADN0-PCU00RP14.R50000]

Notice of Inventory Completion: University of Georgia Laboratory of Archaeology, Athens, GA

AGENCY: National Park Service, Interior.

ACTION: Notice.

SUMMARY: In accordance with the Native American Graves Protection and Repatriation Act (NAGPRA), the University of Georgia Laboratory of Archaeology has completed an inventory of human remains and associated funerary objects and has determined that there is a cultural affiliation between the human remains and associated funerary objects and Indian Tribes or Native Hawaiian organizations in this notice. The human remains and associated funerary objects were removed from Dade County, GA.

DATES: Repatriation of the human remains and associated funerary objects in this notice may occur on or after September 11, 2023.

ADDRESSES: Dr. Amanda Roberts Thompson, University of Georgia Laboratory of Archaeology, 1125 E. Whitehall Road, Athens, GA 30605, telephone (706) 542-8373, email arobthom@uga.edu.

SUPPLEMENTARY INFORMATION: This notice is published as part of the National Park Service's administrative responsibilities under NAGPRA. The determinations in this notice are the sole responsibility of the University of Georgia Laboratory of Archaeology. The National Park Service is not responsible for the determinations in this notice. Additional information on the determinations in this notice, including the results of consultation, can be found in the inventory or related records held by the University of Georgia Laboratory of Archaeology.

Description

Ancestral remains representing, at minimum, 13 individuals were removed from 9DD25, the Tunacunnhee site, in Dade County, GA. This site is located near Trenton, GA, a few hundred yards east of Lookout Creek and several miles south of the junction of Lookout Creek and the Tennessee River. In 1973, these human remains were excavated during a University of Georgia (UGA) field school led by Joseph R. Caldwell and Richard W. Jefferies. All eight of the mounds at the Tunacunnhee site were tested during the 1973 field season, with a total surface area of 8,000 feet was excavated. Since being removed, the collection has been housed at the University of Georgia Laboratory of Archaeology. The 304 associated funerary objects consist of indigenous ceramics, lithics, copper plates, mica, copper and silver pan pipes, copper earspools, copper pin, copper and silver fragments, woven materials, burnt clay, faunal remains, drilled bear canines, drilled shark teeth, raptor talons, and bone beads.

Ancestral remains representing, at minimum, three individuals were removed from site 9DD57, Dyar Rockshelter, in Dade County, GA, during a survey conducted by Bruce Smith in 1975. At the time the site was surveyed, a collection was made from the surface of the cave as well as from test pits and areas just outside the cave. Since being removed, the collection has been housed at the University of Georgia Laboratory of Archaeology. No associated funerary objects are present.

Ancestral remains representing, at minimum, one individual were removed from site 9DD35, Bone Cave, in Dade County, GA, during a survey conducted by Bruce Smith in 1975. At the time the site was surveyed, a collection was made from the surface of the site. Since being removed, the collection has been housed at the University of Georgia Laboratory of Archaeology. The human remains belong to an individual of indeterminate age and sex. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological and geographical.

Determinations

Pursuant to NAGPRA and its implementing regulations, and after consultation with the appropriate Indian Tribes and Native Hawaiian organizations, the University of Georgia Laboratory of Archaeology has determined that:

• The human remains described in this notice represent the physical remains of 17 individuals of Native American ancestry.

• The 304 objects described in this notice are reasonably believed to have been placed with or near individual human remains at the time of death or later as part of the death rite or ceremony.

• There is a relationship of shared group identity that can be reasonably traced between the human remains and associated funerary objects described in this notice and the Cherokee Nation; Eastern Band of Cherokee Indians; Kialegee Tribal Town; Poarch Band of Creek Indians; Shawnee Tribe; The Muscogee (Creek) Nation; Thlopthlocco Tribal Town; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 11, 2023. If competing requests for repatriation are received, the University of Georgia Laboratory of Archaeology must determine the most appropriate requestor prior to repatriation. Requests for joint repatriation of the human remains and associated funerary objects are considered a single request and not competing requests. The University of Georgia Laboratory of Archaeology is responsible for sending a copy of this notice to the Indian Tribes identified in this notice.

Authority: Native American Graves Protection and Repatriation Act, 25 U.S.C. 3003, and the implementing regulations, 43 CFR 10.9, 10.10, and 10.14.

Dated: August 2, 2023.
Melanie O'Brien,
Manager, National NAGPRA Program.

[FR Doc. 2023-17133 Filed 8-9-23; 8:45 am]

BILLING CODE 4312-52-P